FEDERAL COMMUNICATIONS COMMISSION

47 CFR Part 73

[DA 04-1078; MB Docket No. 04-161; RM-10961]

Radio Broadcasting Services; Mount Sterling and Wilmington, OH

AGENCY: Federal Communications Commission.

ACTION: Proposed rule.

SUMMARY: This document requests comments on a petition for rule making filed by Vernon R. Baldwin, Inc., licensee of Station WKLN(FM), Channel 272A, Wilmington, Ohio. The petition proposes to reallot Channel 272A, Station WKLN(FM), from Wilmington to Mount Sterling, Ohio, thus providing Mount Sterling with its first local aural transmission service. The coordinates for requested Channel 272A at Mount Sterling, Ohio, are 39-35-16 NL and 83-13-26 WL, with a site restriction of 15 kilometers (9.4 miles) south of Mount Sterling.

Petitioner's reallotment proposal complies with the provisions of Section 1.420(i) of the Commission's Rules, and therefore, the Commission will not accept competing expressions of interest in the use of Channel 272A at Mount Sterling, Ohio, or require the petitioner to demonstrate the availability of an additional equivalent class channel.

DATES: Comments must be filed on or before June 18, 2004, and reply comments on or before July 5, 2004.

ADDRESSES: Secretary, Federal Communications Commission, 445 12th Street, SW., Room TW-A325, Washington, DC 20554. In addition to filing comments with the FCC, interested parties should serve the petitioner's counsel, as follows: Dennis F. Begley, Esq., Reddy, Begley & McCormick, LLP; 1156 15th Street, NW., Suite 610; Washington, DC 20005-1770.

FOR FURTHER INFORMATION CONTACT: R. Barthen Gorman, Media Bureau, (202) 418-2180.

SUPPLEMENTARY INFORMATION: This is a synopsis of the Commission's Notice of Proposed Rule Making, MB Docket No. 04-161, adopted April 22, 2004, and released April 27, 2004. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Ohio, is amended by removing Wilmington, Channel 272A, and adding Mount Sterling, Channel 272A.

Federal Communications Commission.
John A. Karousos,
Assistant Chief, Audio Division Media Bureau.

[FR Doc. 04-11548 Filed 5-20-04; 8:45 am]

BILLING CODE 6712-01-P